DEPARTMENT OF AGRICULTURE

Food and Nutrition Service

Request for Public Comments for Special Supplemental Nutrition Program for Women, Infants and Children (WIC) Local Agency Recognition of Exemplary Breastfeeding Support Practices

AGENCY: Food and Nutrition Service, USDA.

ACTION: Notice of request for comments.

SUMMARY: This notice announces a request for public comments on the approach for selecting and awarding local agencies for excellence in WIC breastfeeding services and support. Section 231 of the Healthy, Hunger-Free Kids Act of 2010, Public Law 111-296, requires that the U.S. Department of Agriculture (USDA) establish a program to recognize WIC local agencies and clinics that demonstrate exemplary breastfeeding promotion and support activities. USDA believes that public input on the development of the recognition program would be beneficial.

DATES: Comments must be received on or before August 29, 2011.

ADDRESSES: Comments may be submitted by any of the following methods: Federal eRulemaking Portal: Go to http://www.regulations.gov. Follow online instructions for submitting comments electronically.

Mail: Address comments to: Debra R. Whitford, Director, Supplemental Food Programs Division, Food and Nutrition Service, USDA, 3101 Park Center Drive, Room 520, Alexandria, VA 22302.

Respondents are strongly encouraged to submit comments through http://www.regulations.gov, as it will simplify the review of their input and help to ensure that it receives full consideration. All comments submitted in response to this notice will be included in the record and will be made available to the public. Please be advised that the substance of the comments and the identity of the individuals or entities submitting the comments will be subject to public disclosure. All comments will be made available publicly on the internet at http://www.regulations.gov.

FOR FURTHER INFORMATION CONTACT: Sandra Clark, Chief, Nutrition Services Branch, Supplemental Food Programs Division, Food and Nutrition Service, USDA, 3101 Park Center Drive, Room 520, Alexandria, VA 22302. (703) 305-2746.

SUPPLEMENTARY INFORMATION:

I. Background

Historically, the WIC Program has promoted breastfeeding as the optimal method of infant feeding, unless medically contraindicated. Breastfeeding promotion and support is a critical component of the services the WIC Program provides to pregnant and postpartum participants. As evidence has grown surrounding the importance of breastfeeding to the health of mothers and babies, WIC has further expanded initiatives to reinforce these activities as a priority for the WIC Program. WIC's recent efforts surrounding breastfeeding promotion and support include changing the WIC food packages to provide enhanced packages for fully breastfeeding mothers, expanding the WIC Peer Counselor Program, and establishing WIC Breastfeeding Performance Bonus awards to State agencies. This local agency recognition program will complement these and other Food and Nutrition Service (FNS) initiatives currently underway that seek to promote and increase breastfeeding among WIC participants. It will also complement other Federal initiatives, such as the Department of Health and Human Services (DHHS)-led initiative, The Surgeon General's Call to Action to Support Breastfeeding, as well as the recent requirement in the Patient Protection and Healthcare Reform Act (Pub. L. 111-148), that became effective in 2010, that most employers provide a reasonable break time for breastfeeding mothers. All of these initiatives work towards the common goal to meet national objectives specified in the recently released DHHS Healthy People 2020, which includes an expansion of the previously established 2010 breastfeeding objectives.

While all WIC local agencies are required to implement policies and procedures to provide breastfeeding support and assistance throughout the prenatal and postpartum period, the Healthy, Hunger-Free Kids Act of 2010 (HHFKA) requires USDA to implement a program to recognize exemplary breastfeeding support practices at WIC local agencies and clinics. This program is expected to provide models and motivate other local agencies and clinics to strengthen their breastfeeding promotion and support activities. The HHFKA also authorizes the appropriation of funds for this local agency recognition program.

USDA plans to begin recognizing exemplary agencies and clinics during fiscal year 2012. Awards may be monetary or non-monetary, based on the availability of funds. USDA will develop and implement this recognition program through careful consideration of information from existing recognition and incentive programs, key stakeholder input, and public comments to develop recognition award criteria and application procedures.

II. Key Issues on Which Public Comment is Requested

In recognizing exemplary local agencies and clinics, the HHFKA requires that the Secretary consider:

(1) Performance measurements of breastfeeding;

(2) The effectiveness of a peer counselor program;

(3) The extent to which the agency or clinic has partnered with other entities to build a supportive breastfeeding environment for women participating in WIC; and

(4) Other criteria the Secretary considers appropriate after consultation with State and local program agencies.

This notice serves as one means of consulting with State and local agencies and the general public. FNS would like comments on the criteria for the recognition, specifically:

(1) What additional elements should FNS consider as a component of the selection criteria for this local agency recognition program?

(2) What sources of data or information are available to support this recognition process?

Dated: June 23, 2011.
Audrey Rowe,
Administrator, Food and Nutrition Service.

[FR Doc. 2011-16289 Filed 6-28-11; 8:45 am]

BILLING CODE 3410-30-P